Memorandum of December 8, 2004

Delegation of Certain Reporting Authority

Memorandum for the Secretary of Agriculture

By the authority vested in me as President by the Constitution and the laws of the United States, including section 301 of title 3, United States Code, I hereby delegate to you the functions conferred upon the President by section 13 of Public Law 806, 80th Congress (15 U.S.C. 714k), to provide the specified report to the Congress.

You are authorized and directed to publish this memorandum in the Federal Register.

B

THE WHITE HOUSE,

Washington, December 8, 2004.

[FR Doc. 04-27469

Filed 12-13-04; 8:45 am]

Billing code 3195-01-P